DEPARTMENT OF THE INTERIOR

Fish and Wildlife Service

[FWS-R2-ES-2014-N235; FRES480102200B0-XXX-FF02ENEH00]

Information Collection Request Sent to the Office of Management and Budget (OMB) for Approval; Survey of Residents' Attitudes on Jaguar Conservation

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. We may not conduct or sponsor and a person is not required to respond to a collection of information unless it displays a currently valid OMB control number.

DATES: You must submit comments on or before December 8, 2014.

ADDRESSES: Send your comments and suggestions on this information collection to the Desk Officer for the Department of the Interior at OMB-OIRA at (202) 395-5806 (fax) or OIRA_Submission@omb.eop.gov (email). Please provide a copy of your comments to the Service Information Collection Clearance Officer, U.S. Fish and Wildlife Service, MS BPHC, 5275 Leesburg Pike, Falls Church, VA 22041-3803, (mail), or hope_grey@fws.gov (email). Please include “1018-Resident” in the subject line of your comments.

FOR FURTHER INFORMATION CONTACT: To request additional information about this ICR, contact Hope Grey at hope_grey@fws.gov (email) or 703-358-2482 (telephone). You may review the ICR online at http://www.reginfo.gov. Follow the instructions to review Department of the Interior collections under review by OMB.

SUPPLEMENTARY INFORMATION:

Information Collection Request

OMB Control Number: 1018-XXXX. This is a new collection.

Title: Survey of Residents' Attitudes on Jaguar Conservation.

Service Form Number: None.

Type of Request: Request for a new OMB control number.

Estimated Number of Annual Respondents: 225.

Description of Respondents: Individuals, land-based business owners/operators; government agency personnel; local wildlife associations; and conservation or recreation organizations.

Respondent's Obligation: Voluntary.

Frequency of Collection: One time.

Activity | Number of responses | Completion time per response (minutes) | Total annual burden hours
Initial contact | 225 | 3 | 11
Complete Jaguar Survey | 200 | 15 | 50
Totals | 425 |  | 61

Estimated Annual Nonhour Burden Cost: None.

Abstract: This survey is designed to elicit information about the public's perspectives on attitudes towards and beliefs about jaguars in the Northwestern Recovery Unit (southern Arizona and southwestern New Mexico). We plan to survey 200 residents, land-based business owners/operators, related government agency personnel, and local wildlife association and/or conservation organization members in the Northwestern Recovery Unit. The survey will gather information on people's current level of knowledge about jaguar ecology and status, people's attitudes towards jaguars, and the social barriers and opportunities to jaguar conservation in this region. The surveys will consist of in-person interviews. This information will aid us in identifying groups that might be interested in being involved or staying informed about jaguar conservation and highlighting groups with particular concerns that might be addressed in forthcoming policies or programs. We will use information gained from this survey to formulate future jaguar conservation strategies, as well as to create educational and outreach materials for jaguar recovery.

Comments Received and Our Responses

On December 17, 2013, we published in the Federal Register (78 FR 76315) a notice of our intent to request that OMB approve this information collection. In that notice, we solicited comments for 60 days, ending on February 18, 2014. We received the following comments:

Comment: The commenter requested that surveys be collected from residents of Hidalgo County, New Mexico, as well as from residents of Cochise, Pima, and Santa Cruz Counties of Arizona, and that the number of interviews conducted with residents of each of the four counties in the Northwestern Recovery Unit be proportional to the counties' population.

Response: We will survey residents in Hidalgo County, New Mexico. The contractor will make every effort to distribute the 200 surveys so that each county's residents are adequately represented.

Comment: One comment requested that the survey include farmers and ranchers in Hidalgo County, New Mexico.

Response: The method of interviewing residents will mean that farmers and ranchers will likely be included among the rural residents surveyed. The category of small farmers/ranchers will be targeted purposely, as a stakeholder category. Small-acreage land users are often not included in data collection that targets ranchers and other agricultural producers. A concurrent information collection will include ranchers and farmers in the Northwestern Recovery Unit. Thus, they will not be included in this survey to avoid duplication of effort.

Comment: One commenter requested to be included as a survey respondent.

Response: We will include the commenter's agency as a respondent in the related government agency personnel survey stakeholder category.

Comment: One commenter requested a copy of the survey instrument and the results of surveys once completed.

Response: We will send a copy of the survey instrument and the final report, which will include information on the data collected, analysis methods, results, and conclusions. The final report will be available after May 2015.

Request for Public Comments

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: November 4, 2014.
Tina A. Campbell,
Chief, Division of Policy and Directives Management, U.S. Fish and Wildlife Service.

[FR Doc. 2014-26513 Filed 11-6-14; 8:45 am]

BILLING CODE 4310-55-P